DEPARTMENT OF ENERGY

Federal Energy Regulatory Commission

[Docket No. RP01-174-000]

Dominion Transmission, Inc.; Notice of Proposed Changes in FERC Gas Tariff

December 12, 2000.

Take notice that on December 4, 2000, Dominion Transmission Inc. (DTI), tendered for filing as part of its FERC Gas Tariff, Third Revised Volume No. 1, the following revised tariff sheets, with an effective date of January 1, 2001:

First Revised Sheet No. 256

First Revised Sheet No. 2200

First Revised Sheet No. 2203

First Revised Sheet No. 2204

First Revised Sheet No. 2205

First Revised Sheet No. 2206

First Revised Sheet No. 2207

First Revised Sheet No. 2208

First Revised Sheet No. 2209

Original Sheet No. 2210

Original Sheet No. 2211

Original Sheet No. 2212

DTI states that it is proposing changes to its Rate Schedule IT and its E-SCRIPT System Contact Information and the E-SCRIPT System User Request Form. The proposed changes to Rate Schedule IT are not substantive but would simply renumber tariff sections. DTI states that its changes to the tariff for E-SCRIPT related matters revise DTI's E-SCRIPT tariff form and make various administrative and ministerial language changes required to update the tariff for recent technological changes.

DTI states that copies of its letter of transmittal and enclosures have been served upon DTI's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-32078 Filed 12-15-00; 8:45 am]

BILLING CODE 6717-01-M